DEPARTMENT OF STATE

22 CFR Part 171

[Public Notice: 9187]

RIN 1400-AD86

Privacy Act; STATE-09, Records Maintained by the Office of Civil Rights

AGENCY: Department of State.

ACTION: Proposed rule.

SUMMARY: The Department of State is giving concurrent notice of a publication for a system of records pursuant to the Privacy Act of 1974 for the Records Maintained by the Office of Civil Rights, STATE-09; and this proposed rulemaking, which proposes to exempt portions of this system of records from one or more provisions of the Privacy Act of 1974.

DATES: Comments on this proposed rule are due by August 24, 2015.

FOR FURTHER INFORMATION CONTACT: John Hackett, Acting Director; Office of Information Programs and Services, A/GIS/IPS; Department of State, SA-2; 515 22nd Street NW., Washington, DC 20522-8001, or at Privacy@state.gov.

SUPPLEMENTARY INFORMATION: The Department of State maintains the Records Maintained by the Office of Civil Rights system of records. The primary purpose of this system of records is for the investigation, processing, and resolution of informal and formal complaints of discrimination filed against the Department of State in accordance with 29 CFR part 1614 and the Department's internal procedures for addressing Equal Employment Opportunity (EEO) complaints; and for the investigation, processing and resolution of complaints of discrimination under 42 U.S.C. 2000d and complaints under 20 U.S.C. 1681, 29 U.S.C. 794 and 794d, 42 U.S.C. 6101, 29 U.S.C. 621, and 36 CFR chapter XI.

The Department of State is issuing this document as a proposal to amend 22 CFR part 171 to exempt portions of the Records Maintained by the Office of Civil Rights system of records from the Privacy Act subsections (c)(3);(d); (e)(1); (e)(4)(G), (H), and (I); and (f) of the Privacy Act pursuant to 5 U.S.C. 552a(k)(5) to the extent that the system contains investigatory material compiled for law enforcement purposes, and (k)(6) to the extent that it contains testing or examination material used solely to determine individual qualifications for appointment or promotion in the Federal service.

List of Subjects in 22 CFR Part 171

Privacy.

For the reasons stated in the preamble, 22 CFR part 171 is proposed to be amended as follows:

PART 171—AVAILABILITY OF INFORMATION AND RECORDS TO THE PUBLIC

1. The authority citation for part 171 continues to read as follows:

Authority: 5 U.S.C. 552, 552a; 22 U.S.C. 2651a; Pub. L. 95-521, 92 Stat. 1824, as amended; E.O. 13526, 75 FR 707; E.O. 12600, 52 FR 23781, 3 CFR, 1987 Comp., p. 235.

§ 171.36 [Amended]

2. Section 171.36 is amended by adding an entry, in alphabetical order, for “Records Maintained by the Office of Civil Rights, State-09” to the lists in paragraphs (b)(5) and (6).

Joyce A. Barr,
Assistant Secretary for Administration, U.S. Department of State.

[FR Doc. 2015-17227 Filed 7-13-15; 8:45 am]

BILLING CODE 4710-10-P